DEPARTMENT OF ENERGY

Federal Energy Regulatory Commission

[Docket No. EC04-11-000, et al.]

Caledonia Generating, LLC, et al.; Electric Rate and Corporate Filings

November 13, 2003.

The following filings have been made with the Commission. The filings are listed in ascending order within each docket classification.

1. Caledonia Generating, LLC, Cogentrix Energy Power Marketing, Inc., Cogentrix Lawrence County, LLC, Green Country Energy, LLC, Logan Generating Company, L.P., Pittsfield Generating Company, L.P., Quachita Power, LLC, Rathdrum Power, LLC, Southaven Power, LLC, Cogentrix Energy, Inc., and GS Power Holdings, LLC

[Docket Nos. ER01-1383-002, ER95-1739-020, ER01-1819-002, ER99-2984-003, ER95-1007-016, ER98-4400-005, ER02-2026-001, ER99-3320-001, and ER03-922-001]

Take notice that on October 30, 2003, Caledonia Generating, LLC (Caledonia), Cogentrix Energy Power Marketing, Inc. (CEPM), Cogentrix Lawrence County, LLC (Cogentrix Lawrence), Green Country Energy, LLC (Green Country), Logan Generating Company, L.P. (Logan), Pittsfield Generating Company, L.P. (Pittsfield), Quachita Power, LLC (Quachita), Rathdrum Power, LLC (Rathdrum), and Southaven Power, LLC (Southaven) (together, Project Companies), Cogentrix Energy, Inc. (Cogentrix), and GS Power Holdings, LLC 9GS Power Holdings) (collectively, Applicants) filed with the Federal Energy Regulatory Commission a joint application pursuant to section 203 of the Federal Power Act and notice of change in status with respect to the transfer of indirect upstream membership interests in Project Companies from Cogentrix to GS Power Holdings.

Comment Date: November 20, 2003.

2. Kentucky Utilities Company and Louisville Gas and Electric Company

[Docket No. EC04-13-000]

Take notice that on November 3, 2003, Louisville Gas and Electric Company and Kentucky Utilities Company (the Applicants) filed an Application under Section 203 of the Federal Power Act. The Applicants state that the proposed transaction that is the subject of the Application is intended solely to effect by year end a tax efficient reorganization and does not involve any acquisition or external disposition of public utilities, energy companies, or facilities subject to the jurisdiction of the Commission, and therefore will have no effect on competition, the Applicants' rates, or regulation. Consequently, the Applicants respectfully request the Commission to authorize the proposed transaction as soon as possible but in no event, later than the Commission's last business day of 2003.

Comment Date: November 20, 2003.

3. Panda-Rosemary, L.P.

[Docket No. EG04-11-000]

On November 3, 2003, Panda-Rosemary, L.P. (Panda-Rosemary), filed an application with the Commission for determination of exempt wholesale generator status pursuant to section 32 of the Public Utility Holding Company Act of 1935, as amended, and part 365 of the Commission's regulations.

Panda-Rosemary states that it is a limited partnership organized and existing under the laws of the State of Delaware, and that it owns and operates an electric facility located in Roanoke Rapids, North Carolina. Panda-Rosemary further states that the electric facility consists of a nominal 180-MW, topping cycle cogeneration facility that burns natural gas as its primary fuel and No. 2 distillate oil as a back-up fuel, and certain related electric interconnection facilities necessary to effect the sale of electricity at wholesale.

Comment Date: November 24, 2003.

4. Panda Global Services, Inc.

[Docket No. EG04-12-000]

On November 3, 2003, Panda Global Services, Inc (PGS) filed an application with the Federal Energy Regulatory Commission for determination of exempt wholesale generator status pursuant to section 32 of the Public Utility Holding Company Act of 1935, as amended, and part 365 of the Commission's regulations.

PGS states that it is a corporation organized and existing under the laws of the State of Delaware, and that it will be engaged directly and exclusively in the business of operating several eligible facilities. PGS further states that it will satisfy the requirement to sell electric energy at wholesale through its contractual relationship with the owner or lessee of such eligible facilities, which sell electric energy from such eligible facilities exclusively at wholesale.

Comment Date: November 24, 2003.

5. Detroit Edison Company; DTE Energy Trading, Inc.

[Docket Nos. ER97-324-005 and ER97-3834-011]

Take notice that on November 3, 2003, Detroit Edison Company and DTE Energy Trading, Inc., hereby submitted for filing a status report in compliance with Commission's Order issued May 17, 2001, 95 FERC ¶ 61,240 (2001).

Comment Date: November 24, 2003.

6. Praxair, Inc.

[Docket No. ER00-3767-002]

Take notice that on November 3, 2003, Praxair, Inc. tendered for filing a triennial market power update in compliance with Praxair, Inc., Letter Order, issued November 2, 2000 in Docket No. ER00-3767-000.

Comment Date: November 24, 2003.

7. Delta Energy Center, LLC

[Docket No. ER03-510-002]

Take notice that on November 3, 2003, Delta Energy Center, LLC filed revised rate sheets to Delta's Rate Schedule FERC No. 2, consisting of a Must-Run Service Agreement and accompanying schedules.

Comment Date: November 24, 2003.

8. Connecticut Jet Power LLC

[Docket No. ER03-563-024]

Take notice that on November 3, 2003, ISO New England Inc. (ISO) submitted a Compliance Filing in above-captioned proceeding as directed by the Commission in its October 23, 2003 Order Accepting Initial Bid Cost Input Information for Filing, 105 FERC ¶ 61,096.

The ISO states that copies of the filing have been served on all parties to the above-captioned proceeding.

Comment Date: November 24, 2003.

9. Pacific Gas and Electric Company

[Docket No. ER03-1115-001]

Take notice that on November 3, 2003, Pacific Gas and Electric Company (PG&E) submitted a revised Generator Special Facilities Agreement, Supplemental Letter Agreement, and Generator Interconnection Agreement between PG&E and Elk Hills Power, LLC (Elk Hills) in compliance with the Commission's “Order Accepting Interconnection Agreements and Revised Generator Special Facilities Agreement, As Modified”, dated October 3, 2003.

PG&E states that copies of this filing have been served upon Elk Hills, GWF Energy Company, LLC, the California Independent System Operator Corporation and the California Public Utilities Commission.

Comment Date: November 24, 2003.

10. Montana Megawatts I, LLC, NorthWestern Energy Division of NorthWestern Corporation

[Docket No. ER03-1223-001]

Take notice that on November 3, 2003, Montana Megawatts I, LLC (Montana Megawatts) tendered for filing a First Revised Rate Schedule FERC No. 1, consistent with Order No. 614, in compliance with the Commission's Order dated October 17, 2003. Montana Megawatts also states that it filed Rate Schedule FERC No. 1 on August 18, 2003, and First Revised Rate Schedule FERC No. 1 incorporates changes from recent amendments to the original contract.

Comment Date: November 24, 2003.

11. Hartford Steam Company

[Docket No. ER03-1394-000]

Take notice that on October 24, 2003, Hartford Steam Company (Hartford Steam) submitted for filing a Notice of Withdrawal of an Energy Purchase Agreement dated September 26, 2003, by and between Hartford Steam and The Connecticut Light and Power Company.

Comment Date: November 21, 2003.

12. Deseret Generation & Transmission Co-operative, Inc.

[Docket No. ER04-107-001]

Take notice that on November 3, 2003, Deseret tendered for filing an Errata to its October 30, 2003 filing, indicating that the proposed sheets to be included in Deseret's First Revised Service Agreement No. 2 to FERC Electric Tariff, Original Volume No. 1 were incorrectly designated. Deseret states that the proper designations are Original Sheet Nos. 87 through 101. Deseret further states that they have attached a complete copy of the revised sheets to the Errata filing and requests that these pages be substituted for those originally submitted on October 30, 2003.

Comment Date: November 24, 2003.

13. Xcel Energy Services Inc.; Northern States Power Company

[Docket No. ER04-146-000]

Take notice that on November 3, 2003, Xcel Energy Services Inc. (XES), on behalf of Northern States Power Company (NSP), submitted for filing with the Commission a Generation Interconnection Agreement between NSP and K-Brink Windfarm, LLC, a 1.9 MW wind generator.

NSP requests the agreement to be accepted for filing effective January 9, 2003, and requests waiver of the Commission's notice requirements in order for the Agreements to be accepted for filing on the date requested.

Comment Date: November 24, 2003.

14. NorthWestern Energy

[Docket No. ER04-147-000]

Take notice that on November 3, NorthWestern Energy (NWE), tendered for filing with the Federal Energy Regulatory Commission pursuant to 18 CFR 35.13 an executed Firm and Non-Firm Point-To-Point Transmission Service Agreements with Basin Electric Power Cooperative and Calpine Energy Services. Also on the same date, NEW filed an unexecuted Firm and Non-Firm Transmission Service Agreement with Rainbow Energy Marketing Corp., under NWE's FERC Electric Tariff, Fifth Revised Volume No. 5 (Open Access Transmission Tariff).

NWE states that a copy of the filing was served upon Basin Electric, Rainbow Energy and Calpine Electric.

Comment Date: November 24, 2003.

15. Columbus Southern Power Company

[Docket No. ER04-148-000]

Take notice that on November 3, 2003, Columbus Southern Power Company (CSP), tendered for filing with the Commission a Notice of Cancellation for Service Agreement No. 4 under FERC Electric Tariff, Fifth Revised Volume No. 1, which became effective on February 22, 1982.

CSP states that the current version of Service Agreement No. 4 contains a ninety day notice of cancellation provision and that CSP gave the Village of Glouster, Ohio (Glouster), (the only customer that was served by CSP and Service Agreement No. 4), timely written notification of CSP's election to terminate Service Agreement No. 4 and service to Glouster under CSP's cost-based rates. CSP requests that its Notice of Cancellation be made effective as of February 28, 2003.

CSP states that copies of its filing have been served upon the Public Utilities Commission of Ohio and Glouster.

Comment Date: November 24, 2003.

16. Appalachian Power Company

[Docket No. ER04-149-000]

Take notice that on November 3, 2003, Appalachian Power Company (APCo), tendered for filing with the Commission a Notice of Cancellation for Rate Schedule FERC Nos. 126, 127, and 136, which became effective on November 17, 1991, August 1, 1991, and March 15, 1996, respectively.

APCo states that the current versions of Rate Schedules 126, 127 and 136 on file with the Commission contain a three (3) year notice of cancellation provision and that APCo gave Old Dominion Electric Cooperative (ODEC), the only customer served by APCo under Rate Schedules 126, 127 and 136, timely written notification of its election to terminate these Rate Schedules and service to CVEC under APCo's cost-based rates. APCo also states that, at ODEC's request, APCo and ODEC agreed to modify the effective dates of termination from the earliest dates permitted by Rate Schedules 126, 127 and 136, as provided in the termination letters sent by APCo, to December 31, 2003. APCo requests that its Notice of Cancellation be made effective as of January 1, 2004.

APCo further states that copies of its filing have been served upon the Virginia State Corporation Commission and ODEC.

Comment Date: November 24, 2003.

17. Columbus Southern Power Company

[Docket No. ER04-150-000]

Take notice that on November 3, 2003, Columbus Southern Power Company (CSP), tendered for filing with the Commission a Notice of Cancellation for Service Agreement No. 3 under FERC Electric Tariff, Fifth Revised Volume No. 1 (Service Agreement No. 3), which became effective on September 30, 1982.

CSP states that the current version of Service Agreement No. 3 contains a two year notice of cancellation provision and that CSP gave the City of Westerville, Ohio (Westerville), the only customer served by CSP under Service Agreement No. 3, timely written notification of CSP's election to terminate Service Agreement No. 3, and service to Westerville under CSP's cost-based rates. CSP requests that its Notice of Cancellation be made effective as of January 1, 2004.

CSP further states that copies of its filing have been served upon the Public Utilities Commission of Ohio and Westerville.

Comment Date: November 24, 2003.

18. Nevada Power Company

[Docket No. ER04-152-000]

Take notice that on November 3, 2003, Nevada Power Company (Nevada Power) tendered for filing five unexecuted Regional Required System Upgrades Western Memorandums of Understanding between Nevada Power and the following generators: (1) Mirant Las Vegas, LLC; (2) GenWest, LLC; (3) Duke Energy Moapa, LLC; (4) Las Vegas Cogeneration II, LLC; and (5) Reliant Energy Bighorn, LLC. The Western Memorandums of Understanding are submitted as Service Agreement Nos. 03-01171, 03-01172, 03-01174, 03-01175 and 03-01176, respectively, to Nevada Power's Open Access Transmission Tariff. Nevada Power requests that the Western Memorandums of Understanding be made effective as of November 4, 2003.

Comment Date: November 24, 2003.

19. Green Power Partners I LLC

[Docket No. ER04-153-000]

Take notice that on November 3, 2003, Green Power Partners I LLC (Green Power) submitted for filing with the Federal Energy Regulatory Commission an Automated Power Exchange Master Service and Participation Agreement and corresponding schedules (APX Master Agreement) between itself and the Automated Power Exchange, Inc.

Comment Date: November 24, 2003.

20. ISG Hennepin Inc.

[Docket No. ER04-154-000]

Take notice that on November 3, 2003 ISG Hennepin Inc. (ISG Hennepin) petitioned the Commission for acceptance of ISG Hennepin FERC Electric Tariff, Original Volume Number 1; the granting of certain blanket approvals, including the authority to sell electricity at market-based rates; and the waiver of certain Commission regulations. ISG Hennepin requests an effective date for the rate schedule of December 1, 2003.

Comment Date: November 24, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00367 Filed 11-21-03; 8:45 am]

BILLING CODE 6717-01-P